COMMISSION ON CIVIL RIGHTS

Agenda and Notice of Public Meeting of the Rhode Island Advisory Committee

Notice is hereby given, pursuant to the provisions of the rules and regulations of the U.S. Commission on Civil Rights (Commission), and the Federal Advisory Committee Act (FACA), that a briefing meeting of a subcommittee of the Rhode Island Advisory Committee (Committee) to the Commission will convene on Wednesday, July 29, at the Rhode Island Urban League, 248 Prairie Avenue, Providence, Rhode Island. The purpose of the meeting is for the subcommittee to meet with officers of the Rhode Island Police Chiefs Association to discuss the Chiefs' strategic plan and its implications on the Committee's report on racial profiling.

Members of the public are entitled to submit written comments. The comments must be received in the regional office by August 28, 2009. The address is the Eastern Regional Office, 624 Ninth Street NW., Suite 740, Washington, DC 20425. Persons wishing to e-mail their comments or who desire additional information should contact Alfreda Greene, Secretary, at 202-376-7533 or by e-mail to: ero@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA.

Dated in Washington, DC, July 13, 2009.
Peter Minarik,
Acting Chief, Regional Programs Coordination Unit.

[FR Doc. E9-16951 Filed 7-15-09; 8:45 am]

BILLING CODE 6335-01-P